DEPARTMENT OF COMMERCE

Bureau of Economic Analysis

15 CFR Part 801

[Docket No. 1206013202-4700-01]

RIN 0691-AA83

Direct Investment Surveys: BE-10, Survey of U.S. Direct Investment Abroad; Correction

AGENCY: Bureau of Economic Analysis, Commerce.

ACTION: Notice of proposed rulemaking; correction.

SUMMARY: This action corrects the Regulation Identifier Number (RIN) in a proposed rule published in the Federal Register on Thursday, August 14, 2014, to amend regulations of the Department of Commerce's Bureau of Economic Analysis (BEA) to reinstate reporting requirements for the 2014 BE-10, Benchmark Survey of U.S. Direct Investment Abroad. Benchmark surveys are conducted every five years; the prior survey covered 2009.

DATES: Comments on the proposed rule will receive consideration if submitted in writing on or before 5:00 p.m., October 14, 2014.

FOR FURTHER INFORMATION CONTACT: Patricia Abaroa, Chief, Direct Investment Division (BE-50), Bureau of Economic Analysis, U.S. Department of Commerce, Washington, DC 20230; phone (202) 606-9591.

SUPPLEMENTARY INFORMATION: On Thursday, August 14, 2014, BEA published a Notice of Proposed Rulemaking reinstating reporting requirements for the 2014 BE-10, Benchmark Survey of U.S. Direct Investment Abroad. That rule incorrectly identified the RIN as 0691-XC026. The correct RIN for the action is 0691-AA83.

Correction

Accordingly, in proposed rule FR Doc. 2014-18629, beginning on page 47599 in the issue of Thursday, August 14, 2014 (79 FR 47599), the RIN in the heading of the document is revised to read 0691-AA83.

Authority: 5 U.S.C. 301; 15 U.S.C. 4908; 22 U.S.C. 3101-3108; E.O. 11961 (3 CFR, 1977 Comp., p. 86), as amended by E.O. 12318 (3 CFR 1981 Comp., p. 173); and E.O. 12518 (3 CFR 1985 Comp., p. 348).

Dated: August 25, 2014.
Brian C. Moyer,
Acting Director, Bureau of Economic Analysis.

[FR Doc. 2014-21330 Filed 9-8-14; 8:45 am]

BILLING CODE 3510-06-P